DEPARTMENT OF TRANSPORTATION

Federal Aviation Administration

14 CFR Part 39

[Docket No. FAA-2020-0685; Project Identifier MCAI-2020-00396-R; Amendment 39-21325; AD 2020-23-09]

RIN 2120-AA64

Airworthiness Directives; Airbus Helicopters

AGENCY: Federal Aviation Administration (FAA), Department of Transportation (DOT).

ACTION: Final rule.

SUMMARY: The FAA is adopting a new airworthiness directive (AD) for all Airbus Helicopters Model EC130B4 helicopters. This AD was prompted by reports of inflight detachment of the left-hand (LH) side cabin sliding doors and cases of impact damage on the main rotor blades, which were caused by degradation of the sliding door locking mechanism. This AD requires repetitive checks (measurements) of the load that operates the sliding door opening mechanism, repetitive inspections of the markings of the attachment screws for proper alignment, modifying the attachment system of the sliding door, and corrective actions if necessary, as specified in a European Union Aviation Safety Agency (EASA) AD, which is incorporated by reference. The FAA is issuing this AD to address the unsafe condition on these products.

DATES: This AD is effective December 24, 2020.

The Director of the Federal Register approved the incorporation by reference of a certain publication listed in this AD as of December 24, 2020.

ADDRESSES: For material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. You may view this IBR material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2020-0685.

Examining the AD Docket

You may examine the AD docket on the internet at https://www.regulations.gov by searching for and locating Docket No. FAA-2020-0685; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Kristin Bradley, Aviation Safety Engineer, International Validation Branch, General Aviation & Rotorcraft Unit, FAA, 10101 Hillwood Pkwy., Fort Worth, TX 76177; telephone 817-222-5485; email Kristin.Bradley@faa.gov.

SUPPLEMENTARY INFORMATION:

Discussion

The FAA issued a notice of proposed rulemaking (NPRM) to amend 14 CFR part 39 by adding an AD that would apply to all Airbus Helicopters Model EC130B4 helicopters. The NPRM published in the Federal Register on August 6, 2020 (85 FR 47714). The NPRM was prompted by reports of inflight detachment of the LH side cabin sliding doors and cases of impact damage on the main rotor blades, which were caused by degradation of the sliding door locking mechanism. The NPRM proposed to require repetitive checks (measurements) of the load that operates the sliding door opening mechanism, repetitive inspections of the markings of the attachment screws for proper alignment, modifying the attachment system of the sliding door, and corrective actions if necessary, as specified in an EASA AD.

The FAA is issuing this AD to address degradation of the locking mechanism, which could lead to further events of inflight detachment of a LH side cabin sliding door, and possibly result in damage to the helicopter and injury to persons on the ground.

The EASA, which is the Technical Agent for the Member States of the European Union, has issued EASA AD 2020-0069, dated March 24, 2020 (EASA AD 2020-0069) (also referred to as the Mandatory Continuing Airworthiness Information, or the MCAI), to correct an unsafe condition for all Airbus Helicopters Model EC130B4 helicopters. See the MCAI for additional background information.

Comments

The FAA gave the public the opportunity to participate in developing this final rule. The FAA has considered the comments received. An anonymous commenter indicated its support for the NPRM.

Conclusion

The FAA reviewed the relevant data, considered the comment received, and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

EASA AD 2020-0069 describes procedures for repetitive checks (measurements) of the load that operates the sliding door opening mechanism, repetitive inspections of the markings of the attachment screws of the rear LH upper catch for proper alignment, modifying the attachment system of the sliding door, and corrective actions if necessary. Corrective actions include adjusting the rear LH upper catch to increase the load required to operate the sliding door opening mechanism, inspecting the rear LH upper catch to determine if any anchor nut is not locked, and replacing the anchor nuts of the rear LH upper catch. EASA AD2020-0069 also specifies that doing the modification of the attachment system of the sliding door is a terminating action for the repetitive inspections of the markings of the attachment screws of the rear LH upper catch for proper alignment.

This material is reasonably available because the interested parties have access to it through their normal course of business or by the means identified in the ADDRESSES section.

Costs of Compliance

The FAA estimates that this AD affects 159 helicopters of U.S. registry. The FAA estimates the following costs to comply with this AD:

Estimated Costs for Required Actions
Labor cost | Parts cost | Cost per product | Cost on U.S. operators
Up to 3 work-hours × $85 per hour = Up to $255 | $0 | Up to $255 | Up to $40,545.

The FAA estimates the following costs to do any necessary on-condition actions that would be required based on the results of any required actions. The FAA has no way of determining the number of helicopters that might need these on-condition actions:

Estimated Costs of On-Condition Actions
Labor cost | Parts cost | Cost per product
1 work-hours × $85 per hour = $85 | $0 | $85

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-23-09 Airbus Helicopters: Amendment 39-21325; Docket No. FAA-2020-0685; Project Identifier MCAI-2020-00396-R.

(a) Effective Date

This airworthiness directive (AD) is effective December 24, 2020.

(b) Affected ADs

None.

(c) Applicability

This AD applies to all Airbus Helicopters Model EC130B4 helicopters, certificated in any category.

(d) Subject

Air Transport Association (ATA) of America Code 52, Doors.

(e) Reason

This AD was prompted by reports of inflight detachment of the left-hand (LH) side cabin sliding doors and cases of impact damage on the main rotor blades, which were caused by degradation of the sliding door locking mechanism. The FAA is issuing this AD to address degradation of the locking mechanism, which could lead to further events of inflight detachment of a LH side cabin sliding door, and possibly result in damage to the helicopter and injury to persons on the ground.

(f) Compliance

Comply with this AD within the compliance times specified, unless already done.

(g) Requirements

Except as specified in paragraph (h) of this AD: Comply with all required actions and compliance times specified in, and in accordance with, European Union Aviation Safety Agency (EASA) AD 2020-0069, dated March 24, 2020 (EASA AD 2020-0069).

(h) Exceptions to EASA AD 2020-0069

(1) Where EASA AD 2020-0069 refers to its effective date, this AD requires using the effective date of this AD.

(2) Where EASA AD 2020-0069 refers to January 24, 2019 (the effective date of EASA AD 2020-0069), this AD requires using the effective date of this AD.

(3) The “Remarks” section of EASA AD 2020-0069 does not apply to this AD.

(4) The “Parts Installation” allowance provided in paragraph (8) of EASA AD 2020-0069 does not apply to this AD.

(5) Although the service information referenced in EASA AD 2020-0069 specifies to discard certain parts, this AD does not include that requirement.

(i) Alternative Methods of Compliance (AMOCs)

The Manager, Rotorcraft Standards Branch, FAA, may approve AMOCs for this AD. Send your proposal to: Manager, Rotorcraft Standards Branch, FAA, 10101 Hillwood Pkwy., Fort Worth, TX 76177; telephone 817-222-5110; email 9-ASW-FTW-AMOC-Requests@faa.gov.

(j) Related Information

For more information about this AD, contact Kristin Bradley, Aviation Safety Engineer, International Validation Branch, General Aviation & Rotorcraft Unit, FAA, 10101 Hillwood Pkwy., Fort Worth, TX 76177; telephone 817-222-5485; email Kristin.Bradley@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0069, dated March 24, 2020.

(ii) [Reserved]

(3) For EASA AD 2020-0069, contact the EASA, Konrad-Adenauer-Ufer 3, 50668 Cologne, Germany; telephone +49 221 8999 000; email ADs@easa.europa.eu; internet www.easa.europa.eu. You may find this EASA AD on the EASA website at https://ad.easa.europa.eu.

(4) You may view this service information at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2020-0685.

(5) You may view this material that is incorporated by reference at the National Archives and Records Administration (NARA). For information on the availability of this material at NARA, email fedreg.legal@nara.gov, or go to https://www.archives.gov/federal-register/cfr/ibr-locations.html.

Issued on November 4, 2020.
Lance T. Gant,
Director, Compliance & Airworthiness Division, Aircraft Certification Service.

[FR Doc. 2020-25469 Filed 11-18-20; 8:45 am]

BILLING CODE 4910-13-P